DEPARTMENT OF TRANSPORTATION

Surface Transportation Board

[STB Ex Parte No. 670 (Sub-No. 1)]

Notice of Rail Energy Transportation Advisory Committee Meeting

AGENCY: Surface Transportation Board, DOT.

ACTION: Notice of Rail Energy Transportation Advisory Committee meeting.

SUMMARY: Notice is hereby given of a meeting of the Rail Energy Transportation Advisory Committee (RETAC), pursuant to section 10(a)(2) of the Federal Advisory Committee Act, Public Law 92-463, as amended (5 U.S.C., App. 2).

DATES: The meeting will be held on Tuesday, December 1, 2009, beginning at 9 a.m., E.S.T.

ADDRESSES: The meeting will be held in the Commission Meeting Room at the headquarters of the Federal Energy Regulatory Commission, 888 First Street, NE., Washington, DC 20426 (about 2 blocks from the Union Station stop on Metro's Red Line).

FOR FURTHER INFORMATION CONTACT: Scott M. Zimmerman (202) 245-0202. Assistance for the hearing impaired is available through the Federal Information Relay Service (FIRS) at: (800) 877-8339.

SUPPLEMENTARY INFORMATION: RETAC arose from a proceeding instituted by the Board, in Establishment of a Rail Energy Transportation Advisory Committee, STB Ex Parte No. 670. RETAC was formed to provide advice and guidance to the Board, and to serve as a forum for discussion of emerging issues regarding the transportation by rail of energy resources, particularly, but not necessarily limited to, coal, ethanol, and other biofuels. The purpose of this meeting is to continue discussions regarding issues such as rail performance, capacity constraints, infrastructure planning and development, and effective coordination among suppliers, carriers, and users of energy resources. Potential agenda items include reports from each of the four RETAC subcommittees (Best Practices, Capacity Planning, Communication, and Performance Measures), a briefing by the Electric Power Research Institute, a forecast update by the Energy Information Administration, a discussion of Federal Energy Regulatory Commission issues, and an open discussion of the state of the energy supply chain in light of current economic conditions.

The meeting, which is open to the public, will be conducted pursuant to RETAC's charter and Board procedures. A photo ID will be required for admission to the building. Further communications about this meeting may be announced through the Board's Web site at http://www.stb.dot.gov.

This action will not significantly affect either the quality of the human environment or the conservation of energy resources.

Authority: 49 U.S.C. 721, 49 U.S.C. 11101; 49 U.S.C. 11121.

Decided: November 4, 2009.
By the Board.
Anne K. Quinlan,
Acting Secretary.
Jeffrey Herzig,
Clearance Clerk.

[FR Doc. E9-26928 Filed 11-6-09; 8:45 am]

BILLING CODE 4915-01-P